DEPARTMENT OF THE INTERIOR

National Park Service

Minor Boundary Revision at Golden Gate National Recreation Area

AGENCY: National Park Service, Interior.

ACTION: Announcement of park boundary revision.

SUMMARY: Notice is hereby given that the boundary of Golden Gate National Recreation Area is modified to include five acres of real property adjacent to the park. This adjustment is accomplished to include private property that the owner wishes to donate to the United States for the use of Golden Gate National Recreation Area and which the National Park Service has concluded would be a valuable addition to the park. The real property added to the park is depicted as Tract 05-168 on Drawing No. 641/80,046, Sheet 6 of 26, Segment Map 05, dated November 3, 2006. This map is on file and available for inspection at the following locations: National Park Service, Land Resources Program Center, Pacific West Region, 1111 Jackson St., Suite 700, Oakland, CA 94607, and National Park Service, Department of the Interior, Washington, DC 20240.

FOR FURTHER INFORMATION CONTACT: National Park Service, Gregory F. Gress, Chief, Pacific Land Resources Program Center, Pacific West Region, 1111 Jackson St., Suite 700, Oakland, CA 94607, (510) 817-1414.

Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: The Act of October 27, 1972 provides that, after notifying the House Committee on Resources and the Senate Committee on Energy and Natural Resources, the Secretary of the Interior may make minor revisions to the boundary of Golden Gate National Recreation Area by publication of a revised map or description in the Federal Register.

Dated: December 11, 2007.
Jonathan B, Jarvis,
Regional Director, Pacific West Region.

[FR Doc. E7-2758 Filed 2-15-07; 8:45 am]

BILLING CODE 4310-FN-P